DEPARTMENT OF TRANSPORTATION

Pipeline and Hazardous Materials Safety Administration

[Docket No. PHMSA-2013-0119]

Pipeline Safety: Public Workshop on Integrity Verification Process

AGENCY: Pipeline and Hazardous Materials Safety Administration, DOT.

ACTION: Notice of public meeting.

SUMMARY: This notice is announcing a public workshop to be held on the concept of “Integrity Verification Process.” The Integrity Verification Process shares similar characteristics with fitness for service processes. At this workshop, the Pipeline and Hazardous Materials Safety Administration, the National Association of State Pipeline Safety Representatives and various other stakeholders will present information and seek comment on a proposed Integrity Verification Process that will help address several mandates set forth in Section 23, Maximum Allowable Operating Pressure, of the Pipeline Safety, Regulatory Certainty, and Job Creation Act of 2011.

DATES: The public meeting will be held on Wednesday, August 7, 2013. Written comments must be received by September 9, 2013.

ADDRESSES: The workshop will be held at a location, yet to be determined, in the Washington, DC metro area.

Registration: Members of the public may attend this free workshop. To help assure that adequate space is provided, all attendees are encouraged to register for the workshop in advance.

Comments: Members of the public may also submit written comments either before or after the workshop. Comments should reference Docket No. PHMSA-2013-0119. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9 a.m. and 5 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement: Anyone may search the electronic form of all comments received for any of our dockets. You may review DOT's complete Privacy Act Statement in the Federal Register published April 11, 2000, (65 FR 19477).

Information on Services for Individuals with Disabilities: For information on facilities or services for individuals with disabilities, or to request special assistance at the meeting, please contact Cheryl Whetsel at 202-366-4431 or by email at cheryl.whetsel@dot.gov.

FOR FURTHER INFORMATION CONTACT: Cameron Satterthwaite, Office of Pipeline Safety, at 202-366-1319 or by email at cameron.satterthwaite@dot.gov, regarding the subject matter of this notice.

SUPPLEMENTARY INFORMATION: More details on this meeting, including the location, times, and agenda items, will be available on the meeting registration Web site at https://primis.phmsa.dot.gov/meetings/MtgHome.mtg?mtg=91 as they become available. Please note that the public workshop will be webcast, and presentations will be available online at http://www.phmsa.dot.gov/ after the conclusion of the meeting. The workshop will be open to members of the public.

Issued in Washington, DC, on May 22, 2013.
Linda Daugherty,
Deputy Associate Administrator for Policy and Programs.

[FR Doc. 2013-12592 Filed 5-24-13; 8:45 am]

BILLING CODE 4910-60-P